Title 3—

The President

Proclamation 9697 of February 15, 2018

Honoring the Victims of the Tragedy in Parkland, Florida

By the President of the United States of America

A Proclamation

Our Nation grieves with those who have lost loved ones in the shooting at the Marjory Stoneman Douglas High School in Parkland, Florida. As a mark of solemn respect for the victims of the terrible act of violence perpetrated on February 14, 2018, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, February 19, 2018. I also direct that the flag shall be flown at half-staff for the same length of time at all United States embassies, legations, consular offices, and other facilities abroad, including all military facilities and naval vessels and stations.

IN WITNESS WHEREOF, I have hereunto set my hand this fifteenth day of February, in the year of our Lord two thousand eighteen, and of the Independence of the United States of America the two hundred and forty-second.

[FR Doc. 2018-03728

Filed 2-20-18; 11:15 am]

Billing code 3295-F8-P